ENVIRONMENTAL PROTECTION AGENCY

[OPPTS-140286; FRL-6741-7]

Access to Confidential Business Information by SecTek Incorporated

AGENCY: Environmental Protection Agency (EPA).

ACTION: Notice.

SUMMARY: EPA has authorized its contractor SecTek, Incorporated of Herndon, Virginia access to information which has been submitted to EPA under all sections of the Toxic Substances Control Act (TSCA). Some of the information may be claimed or determined to be confidential business information (CBI).

DATES: Access to the confidential data submitted to EPA under all sections of TSCA occurred as a result of an approved waiver dated August 2, 2000, which requested granting SecTek immediate access to all sections of TSCA CBI. This waiver was necessary to allow SecTek to maintain the day-to-day operations of all security hardware, access controls, and alarm equipment.

FOR FURTHER INFORMATION CONTACT: Barbara A. Cunningham, Acting Director, Environmental Assistance Division (7408), Office of Pollution Prevention and Toxics, Environmental Protection Agency, 1200 Pennsylvania Ave., NW., Washington, DC 20460; telephone number: (202) 554-1404, TDD: (202) 554-0551; e-mail address: TSCA-Hotline@epa.gov.

SUPPLEMENTARY INFORMATION:

I. Does this Notice Apply to Me?

This action is directed to the public in general. This action may, however, be of interest to “those persons who are or may be required to conduct testing of chemical substances under the Toxic Substances Control Act (TSCA).” Since other entities may also be interested, the Agency has not attempted to describe all the specific entities that may be affected by this action. If you have any questions regarding the applicability of this action to a particular entity, consult the technical person listed under FOR FURTHER INFORMATION CONTACT.

II. How Can I Get Additional Information, Including Copies of this Document or Other Related Documents?

Electronically. You may obtain electronic copies of this document, and certain other related documents that might be available electronically, from the EPA Internet Home Page at http://www.epa.gov/. To access this document, on the Home Page select “Laws and Regulations”, “Regulations and Proposed Rules,” and then look up the entry for this document under the “Federal Register—Environmental Documents.” You can also go directly to the Federal Register listings at http://www.epa.gov/fedrgstr/.

III. What Action is the Agency Taking?

Under contract number 68-W-00-104, contractor SecTek, Incorporated of 208 Eden St., Suite 201, Herndon, VA, will assist the Office of Pollution Prevention and Toxics (OPPTS) by maintaining the day-to-day operations of all security hardware, access controls, and alarm equipment.

In accordance with 40 CFR 2.306(j), EPA has determined that under EPA contract number 68-W-00-104, SecTek will require access to CBI submitted to EPA under all sections of TSCA to perform successfully the duties specified under the contract.

SecTek personnel will be given access to information submitted to EPA under all sections of TSCA. Some of the information may be claimed or determined to be CBI.

EPA is issuing this notice to inform all submitters of information under all sections of TSCA that EPA may provide SecTek access to these CBI materials on a need-to-know basis only. All access to TSCA CBI under this contract will take place at EPA Headquarters.

SecTek will be authorized access to TSCA CBI at EPA Headquarters only, in accordance with the EPA TSCA Confidential Business Information Security Manual.

Clearance for access to TSCA CBI under this contract may continue until June 30, 2005.

SecTek personnel will be required to sign nondisclosure agreements and will be briefed on appropriate security procedures before they are permitted access to TSCA CBI.

List of Subjects

Environmental protection, Confidential business information.

Dated: September 6, 2000.
Allan S. Abramson,
Director, Information Management Division, Office of Pollution Prevention and Toxics.

[FR Doc. 00-23781 Filed 9-14-00; 8:45 am]

BILLING CODE 6560-50-S